DEPARTMENT OF ENERGY

U.S. Energy Information Administration

Agency Information Collection Extension

AGENCY: U.S. Energy Information Administration (EIA), Department of Energy.

ACTION: Notice.

SUMMARY: EIA submitted an information collection request for extension as required by the Paperwork Reduction Act of 1995. The information collection requests a three-year extension with changes to its Form EIA-846, “Manufacturing Energy Consumption Survey” (MECS), OMB Control Number 1905-0169. The proposed collection will collect data from the U.S. manufacturing sector on energy consumption basic energy consumption and expenditures, shipments of energy offsite, end use consumption, building characteristics, participation in energy management programs, technologies, and fuel switching capacity.

DATES: Comments regarding this proposed information collection must be received no later than November 23, 2022. Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Thomas Lorenz, U.S. Energy Information Administration, telephone (202) 586-3442, or by email at Thomas.Lorenz@eia.gov. The forms and instructions are available on EIA's website at www.eia.gov/survey/.

SUPPLEMENTARY INFORMATION: This information collection request contains:

(1) OMB No. 1905-0169;

(2) Information Collection Request Title: Manufacturing Energy Consumption Survey;

(3) Type of Request: Three-year extension with changes;

(4) Purpose: Form EIA-846 is a self-administered sample survey designed to collect energy consumption and expenditures data from establishments in the manufacturing sector; i.e., North American Industry Classification System (NAICS) codes 31-33. The previous MECS required respondents to complete multiple collection forms depending on an establishment's primary business activity classification under NAICS. The increased use of technology by means of an internet data collection system has allowed the MECS to eliminate the need to have multiple forms.

(4a) Proposed Changes to Information Collection: EIA proposes adding a “Yes/No” follow up question to the Electricity: Total Purchased section of Form EIA-846. The electricity purchased questions on Form EIA-846 request information about the quantity and expenditure of an establishment's purchased energy, in this case, electricity. The follow up question EIA proposes to Form EIA-846 would identify those geographical areas where multiple establishments may be purchasing and using electricity made from renewable sources, such as solar, wind, geothermal, and hydropower. The purpose of this question is to better understand the technology, equipment, and infrastructure that may be shared among manufacturing establishments. This change is consistent with the Bipartisan Infrastructure Law (Infrastructure Investment and Jobs Act);

(5) Annual Estimated Number of Respondents: 15,000;

(6) Annual Estimated Number of Total Responses: 3,750;

(7) Annual Estimated Number of Burden Hours: 34,565;

(8) Annual Estimated Reporting and Recordkeeping Cost Burden: The cost of the burden hours is estimated to be $2,882,030 (34,565 burden hours times $83.38 per hour). EIA estimates that there are no additional costs to respondents associated with the surveys other than the costs associated with the burden hours.

Statutory Authority: 15 U.S.C. 772(b), 42 U.S.C. 7101 et seq.

Signed in Washington, DC, on October 19, 2022.
Samson A. Adeshiyan,
Director, Office of Statistical Methods and Research, U.S. Energy Information Administration.

[FR Doc. 2022-23077 Filed 10-21-22; 8:45 am]

BILLING CODE 6450-01-P